DEPARTMENT OF ENERGY

Federal Energy Regulatory Commission

Combined Notice of Filings #1

Take notice that the Commission received the following exempt wholesale generator filings:

Docket Numbers: EG25-508-000.

Applicants: Bell 1 Solar, LLC.

Description: Bell 1 Solar, LLC submits Notice of Self-Certification of Exempt Wholesale Generator Status.

Filed Date: 8/27/25.

Accession Number: 20250827-5157.

Comment Date: 5 p.m. ET 9/17/25.

Docket Numbers: EG25-509-000.

Applicants: Bell 1 Storage LLC.

Description: Bell 1 Storage LLC submits Notice of Self-Certification of Exempt Wholesale Generator Status.

Filed Date: 8/27/25.

Accession Number: 20250827-5158.

Comment Date: 5 p.m. ET 9/17/25.

Docket Numbers: EG25-510-000.

Applicants: Mammoth Central LLC.

Description: Mammoth Central LLC submits Notice of Self-Certification of Exempt Wholesale Generator Status.

Filed Date: 8/27/25.

Accession Number: 20250827-5161.

Comment Date: 5 p.m. ET 9/17/25.

Docket Numbers: EG25-511-000.

Applicants: Mammoth South LLC.

Description: Mammoth South LLC submits Notice of Self-Certification of Exempt Wholesale Generator Status.

Filed Date: 8/27/25.

Accession Number: 20250827-5173.

Comment Date: 5 p.m. ET 9/17/25.

Docket Numbers: EG25-512-000.

Applicants: Mammoth Central II LLC.

Description: Mammoth Central II LLC submits Notice of Self-Certification of Exempt Wholesale Generator Status.

Filed Date: 8/27/25.

Accession Number: 20250827-5179.

Comment Date: 5 p.m. ET 9/17/25.

Take notice that the Commission received the following electric rate filings:

Docket Numbers: ER20-2186-005.

Applicants: Fern Solar LLC.

Description: Compliance filing: Compliance to 5 to be effective 7/30/2025.

Filed Date: 8/28/25.

Accession Number: 20250828-5095.

Comment Date: 5 p.m. ET 9/18/25.

Docket Numbers: ER24-3067-001.

Applicants: Midcontinent Independent System Operator, Inc., Entergy Services, LLC.

Description: Compliance filing: Entergy Arkansas, LLC submits tariff filing per 35: 2025-08-28_Entergy Order 864 ADIT Additional Compliance to be effective 1/27/2020.

Filed Date: 8/28/25.

Accession Number: 20250828-5101.

Comment Date: 5 p.m. ET 9/18/25.

Docket Numbers: ER25-2124-000.

Applicants: Entergy Louisiana, LLC.

Description: Refund Report: ELL-NEEM (Concordia) WDS Agreement Refund Report to be effective N/A.

Filed Date: 8/27/25.

Accession Number: 20250827-5151.

Comment Date: 5 p.m. ET 9/17/25.

Docket Numbers: ER25-2125-000.

Applicants: Entergy Louisiana, LLC.

Description: Refund Report: ELL-NEEM (Point Coupee) WDS Agreement Refund Report to be effective N/A.

Filed Date: 8/27/25.

Accession Number: 20250827-5155.

Comment Date: 5 p.m. ET 9/17/25.

Docket Numbers: ER25-2126-000.

Applicants: Entergy Louisiana, LLC.

Description: Refund Report: ELL-1803 WDS Agreement Refund Report to be effective N/A.

Filed Date: 8/27/25.

Accession Number: 20250827-5156.

Comment Date: 5 p.m. ET 9/17/25.

Docket Numbers: ER25-2682-000.

Applicants: FL Solar 8, LLC.

Description: Report Filing: FL Solar 8 MBR Supplemental Filing to be effective N/A.

Filed Date: 8/25/25.

Accession Number: 20250825-5039.

Comment Date: 5 p.m. ET 9/15/25.

Docket Numbers: ER25-3312-000.

Applicants: PJM Interconnection, L.L.C.

Description: 205(d) Rate Filing: Amendment to ISA and CSA, SA Nos. 7092 & 7093; Queue No. AF1-092 to be effective 10/27/2025.

Filed Date: 8/27/25.

Accession Number: 20250827-5152.

Comment Date: 5 p.m. ET 9/17/25.

Docket Numbers: ER25-3313-000.

Applicants: Westlands Transmission Project Owner, LLC.

Description: 205(d) Rate Filing: Amendment to Cherry TSA, Request for Waivers to be effective 10/1/2025.

Filed Date: 8/28/25.

Accession Number: 20250828-5001.

Comment Date: 5 p.m. ET 9/18/25.

Docket Numbers: ER25-3314-000.

Applicants: Westlands Transmission Project Owner, LLC.

Description: Initial rate filing: TSA Westlands VI Project, Request for Waivers to be effective 10/1/2025.

Filed Date: 8/28/25.

Accession Number: 20250828-5003.

Comment Date: 5 p.m. ET 9/18/25.

Docket Numbers: ER25-3315-000.

Applicants: PJM Interconnection, L.L.C.

Description: 205(d) Rate Filing: Amendment to ISA, Service Agreement No. 6169; Queue No. AC2-195 to be effective 10/28/2025.

Filed Date: 8/28/25.

Accession Number: 20250828-5039.

Comment Date: 5 p.m. ET 9/18/25.

Docket Numbers: ER25-3316-000.

Applicants: Tri-State Generation and Transmission Association, Inc.

Description: 205(d) Rate Filing: High Impact Load Tariff to be effective 10/28/2025.

Filed Date: 8/28/25.

Accession Number: 20250828-5046.

Comment Date: 5 p.m. ET 9/18/25.

Docket Numbers: ER25-3317-000.

Applicants: Midcontinent Independent System Operator, Inc., MidAmerican Energy Company.

Description: 205(d) Rate Filing: MidAmerican Energy Company submits tariff filing per 35.13(a)(2)(iii: 2025-08-28_SA 4545 MidAmerican-MidAmerican E&P (J3107) to be effective 8/26/2025.

Filed Date: 8/28/25.

Accession Number: 20250828-5049.

Comment Date: 5 p.m. ET 9/18/25.

Docket Numbers: ER25-3318-000.

Applicants: PJM Interconnection, L.L.C.

Description: 205(d) Rate Filing: Amendment to ISA, Service Agreement No. 6131; Queue No. AE2-042 to be effective 10/28/2025.

Filed Date: 8/28/25.

Accession Number: 20250828-5051.

Comment Date: 5 p.m. ET 9/18/25.

Docket Numbers: ER25-3319-000.

Applicants: Oregon Clean Energy, LLC.

Description: Tariff Amendment: Cancellation of Market Based Rate Tariff to be effective 12/31/9998.

Filed Date: 8/28/25.

Accession Number: 20250828-5058.

Comment Date: 5 p.m. ET 9/18/25.

Docket Numbers: ER25-3320-000.

Applicants: AEP Texas Inc.

Description: 205(d) Rate Filing: AEPTX-STEC (Cruce) Facilities Development Agreement to be effective 8/12/2025.

Filed Date: 8/28/25.

Accession Number: 20250828-5061.

Comment Date: 5 p.m. ET 9/18/25.

Docket Numbers: ER25-3321-000.

Applicants: Louisville Gas and Electric Company.

Description: 205(d) Rate Filing: LGE and KU Joint Engineering and Procurement Service Agreement FERC No. 29 to be effective 8/18/2025.

Filed Date: 8/28/25.

Accession Number: 20250828-5085.

Comment Date: 5 p.m. ET 9/18/25.

Docket Numbers: ER25-3322-000.

Applicants: Southwest Power Pool, Inc.

Description: 205(d) Rate Filing: Revisions to Allow Multiple Phase One Restudies within DISIS Process to be effective 10/28/2025.

Filed Date: 8/28/25.

Accession Number: 20250828-5087

Comment Date: 5 p.m. ET 9/18/25.

Docket Numbers: ER25-3323-000.

Applicants: Dominion Energy South Carolina, Inc.

Description: 205(d) Rate Filing: SCPSA IA Amendment to be effective 11/1/2025.

Filed Date: 8/28/25.

Accession Number: 20250828-5092.

Comment Date: 5 p.m. ET 9/18/25.

Docket Numbers: ER25-3324-000.

Applicants: PJM Interconnection, L.L.C.

Description: 205(d) Rate Filing: Revisions to Schedule 12-Appendix A, July 2025 RTEP, 30-Day Comment Period to be effective 11/26/2025.

Filed Date: 8/28/25.

Accession Number: 20250828-5104

Comment Date: 5 p.m. ET 9/29/25.

Docket Numbers: ER25-3325-000.

Applicants: Idaho Power Company.

Description: 205(d) Rate Filing: SA #334—NITSA Between IPC and BPA—Fifth Revised Service Agreement to be effective 11/1/2024.

Filed Date: 8/28/25.

Accession Number: 20250828-5107

Comment Date: 5 p.m. ET 9/18/25.

Docket Numbers: ER25-3326-000.

Applicants: Alabama Power Company, Georgia Power Company, Mississippi Power Company.

Description: 205(d) Rate Filing: Alabama Power Company submits tariff filing per 35.13(a)(2)(iii: AMEA NITSA Amendment Filing (Add Tuskegee No. 4 DP) to be effective 7/30/2025.

Filed Date: 8/28/25.

Accession Number: 20250828-5126.

Comment Date: 5 p.m. ET 9/18/25.

Docket Numbers: ER25-3327-000.

Applicants: JERA Americas Energy Services LLC.

Description: Initial Rate Filing: Application for MBR Authorization—JERA AES LLC to be effective 10/27/2025.

Filed Date: 8/28/25.

Accession Number: 20250828-5127.

Comment Date: 5 p.m. ET 9/18/25.

Docket Numbers: ER25-3328-000.

Applicants: Tampa Electric Company.

Description: 205(d) Rate Filing: Section 205 Revised Transmission Depreciation Rates to be effective 1/1/2025.

Filed Date: 8/28/25.

Accession Number: 20250828-5130.

Comment Date: 5 p.m. ET 9/18/25.

Docket Numbers: ER25-3329-000.

Applicants: AEP Texas Inc.

Description: 205(d) Rate Filing: AEPTX-Horse Hollow Wind II First Amended Generation Interconnection Agreement to be effective 8/7/2025.

Filed Date: 8/28/25.

Accession Number: 20250828-5136

Comment Date: 5 p.m. ET 9/18/25.

Docket Numbers: ER25-3330-000.

Applicants: New York Independent System Operator, Inc., New York Transco, LLC.

Description: Tariff Amendment: New York Independent System Operator, Inc. submits tariff filing per 35.15: NY Transco Ntc of Cnclltn: EPCA among NY Transco, ADM Milling Co, & NYISO SA2643 to be effective 10/28/2025.

Filed Date: 8/28/25.

Accession Number: 20250828-5159.

Comment Date: 5 p.m. ET 9/18/25.

Docket Numbers: ER25-3331-000.

Applicants: Southwest Power Pool, Inc.

Description: 205(d) Rate Filing: Revisions to Further Clarify Inappropriate Bidding Strategies Regarding EESLs to be effective 8/31/2025.

Filed Date: 8/28/25.

Accession Number: 20250828-5175.

Comment Date: 5 p.m. ET 9/18/25.

Docket Numbers: ER25-3332-000.

Applicants: Cheyenne Light, Fuel and Power Company.

Description: 205(d) Rate Filing: Filing of LGIAs with TGE Wyoming 225 LLC and TGE Wyoming 222 LLC to be effective 7/31/2025.

Filed Date: 8/28/25.

Accession Number: 20250828-5181.

Comment Date: 5 p.m. ET 9/18/25.

Docket Numbers: ER25-3333-000.

Applicants: New York Independent System Operator, Inc., New York Transco, LLC.

Description: Tariff Amendment: New York Independent System Operator, Inc. submits tariff filing per 35.15: NY Transco Ntc of Cnclltn: EPCA among NY Transco, Holcim, & NYISO SA2617 to be effective 10/28/2025.

Filed Date: 8/28/25.

Accession Number: 20250828-5187.

Comment Date: 5 p.m. ET 9/18/25.

Docket Numbers: ER25-3334-000.

Applicants: City of Anaheim, California.

Description: 205(d) Rate Filing: City of Anaheim TO Tariff and TRR Revisions to be effective 9/1/2025.

Filed Date: 8/28/25.

Accession Number: 20250828-5188.

Comment Date: 5 p.m. ET 9/18/25.

Docket Numbers: ER25-3335-000.

Applicants: Interstate Power and Light Company.

Description: Tariff Amendment: Cancellation of SMEC Wholesale Power Supply Agreement to be effective 7/31/2025.

Filed Date: 8/28/25.

Accession Number: 20250828-5189.

Comment Date: 5 p.m. ET 9/18/25.

Take notice that the Commission received the following electric securities filings:

Docket Numbers: ES25-56-000.

Applicants: AEP Texas Inc.

Description: Supplement to Application Under Section 204 of the Federal Power Act for Authorization to Issue Securities of AEP Texas Inc.

Filed Date: 8/21/25.

Accession Number: 20250821-5153.

Comment Date: 5 p.m. ET 9/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 28, 2025.
Carlos D. Clay,
Deputy Secretary.

[FR Doc. 2025-16857 Filed 9-2-25; 8:45 am]

BILLING CODE 6717-01-P